DEPARTMENT OF THE TREASURY

Submission for OMB Review; Comment Request

October 11, 2007.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 19, 2007 to be assured of consideration.

Internal Revenue Service (IRS)

OMB Number: 1545-2056.

Type of Review: Extension.

Title: REG-147144-06 Section 1.367(a)-8 Revisions.

Description: These temporary and proposed regulations under IRC § 367(a) provide rules for taxpayers to avoid recognizing gain under a gain recognition agreement (GRA) if a new GRA and notice statement are filed. The regulations also provide a rule under which a taxpayer may reduce the basis in certain stock to meet one of the requirements for terminating a GRA. These regulations also revise an existing rule to facilitate electronic filing. The revision requires that information that a taxpayer currently would write on the face of its Federal income tax return shall instead be attached as a separate schedule to its return.

Respondents: Businesses and other for-profits.

Estimated Total Burden Hours: 240 hours.

OMB Number: 1545-1292.

Type of Review: Extension.

Title: PS-97-91 and PS-101-90 (Final) Enhanced Oil Recovery Credit.

Description: This regulation provides guidance concerning the costs subject to the enhanced oil recovery credit, the circumstances under which the credit is available, and procedures for certifying to the Internal Revenue Service that a project meets the requirements of section 43(c) of the Internal Revenue Code.

Respondents: Businesses and other for-profit institutions.

Estimated Total Burden Hours: 880,333 hours.

OMB Number: 1545-1890.

Type of Review: Extension.

Title: Revenue Procedure 2004-44, Extension of the Amortization Period.

Description: This revenue procedure describes the process for obtaining an extension of the amortization period for the minimum funding standards set forth in section 412(e) of the Code.

Respondents: Businesses and other for-profits.

Estimated Total Burden Hours: 2,500 hours.

OMB Number: 1545-1623.

Type of Review: Extension.

Title: REG-246256-96 (Final) Excise Taxes on Excess Benefit Transactions.

Description: The rule affects organizations described in Internal Revenue Code section 501(c)(3) and (4) (applicable tax-exempt organizations). The collection of information entails obtaining and relying on appropriate comparability data and documenting the basis of an organization's determination that compensation is reasonable, or a property transfer (or transfer of the right to use property) is at fair market value. These actions comprise two of the requirements specified in the legislative history for obtaining the rebuttable presumption of reasonableness.

Respondents: Not-for-profit institutions.

Estimated Total Burden Hours: 910,083 hours.

OMB Number: 1545-0971.

Type of Review: Extension.

Title: Estimated Income Tax for Estates and Trusts.

Form: 1041-ES.

Description: Form 1041-ES is used by fiduciaries of estates and trusts to make estimated tax payments if their estimated tax is $1,000 or more. IRS uses the data to credit taxpayers' accounts and to determine if the estimated tax has been properly computed and timely paid.

Respondents: Businesses and other for-profits.

Estimated Total Burden Hours: 3,161,236 hours.

OMB Number: 1545-2071.

Type of Review: Revision.

Title: TE/GE Compliance Check Questionnaires.

Description: Compliance questionnaires are an invaluable tool for obtaining supplemental information to determine the compliance of specific entities without the burden for the taxpayer or the cost to the IRS of a traditional, full-scale audit. The information collected will be used to improve the quality of data available for monitoring compliance, to correct identified instances of non-compliance and to determine where additional guidance, education or enforcement resources are most needed to prevent future non-compliance.

Respondents: Not-for-profit institutions.

Estimated Total Burden Hours: 37,500 hours.

OMB Number: 1545-1324.

Type of Review: Revision.

Title: CO-88-90 (Final) Limitation on Net Operating Loss Carryforwards and Certain Built-in Losses Following Ownership Change; Special Rule for Value of a Loss Corporation.

Description: This information serves as evidence of an election to apply section 382(1)(6) in lieu of section 382(1)(5) and an election to apply the provisions of the regulations retroactively. It is required by the Internal Revenue Service to assure that the proper amount of carryover attributes are used by a loss corporation following specified types of ownership changes.

Respondents: Businesses and other for-profits.

Estimated Total Burden Hours: 813 hours.

OMB Number: 1545-1752.

Type of Review: Extension.

Title: Revenue Procedure 2001-42 Modified Endowment Contract Correction Program Extension.

Description: This revenue procedure allows issuers (life insurance companies) to remedy inadvertent non-egregious failures to comply with the modified endowment rules set forth in section 7702A of the Internal Revenue Code.

Respondents: Businesses and other for-profits.

Estimated Total Burden Hours: 1,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-20500 Filed 10-17-07; 8:45 am]

BILLING CODE 4830-01-P